DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arizona:
Maricopa (FEMA Docket No.: B-1805). | City of Goodyear (17-09-1851P). | The Honorable Georgia Lord, Mayor, City of Goodyear, 190 North Litchfield Road, Goodyear, AZ 85338. | Engineering Department, 14455 West Van Buren Street, Goodyear, AZ 85338. | May 4, 2018 | 040046
Maricopa (FEMA Docket No.: B-1805). | Unincorporated Areas of Maricopa County (17-09-1851P). | The Honorable Denny Barney, Chairman, Board of Supervisors, Maricopa County, 301 West Jefferson Street, 10th Floor, Phoenix, AZ 85003. | Flood Control District of Maricopa County, 2801 West Durango Street, Phoenix, AZ 85009. | May 4, 2018 | 040037
California:
Alameda (FEMA Docket No.: B-1805). | Unincorporated Areas of Alameda County (17-09-2355P). | The Honorable Wilma Chan, President, Board of Supervisors, Alameda County, 1221 Oak Street, Suite 536, Oakland, CA 94612. | Alameda County Public Works Agency, 399 Elmhurst Street, Hayward, CA 94544. | May 7, 2018 | 060001
Los Angeles (FEMA Docket No.: B-1809). | City of Agoura Hills (18-09-0469P). | The Honorable William D. Koehler, Mayor, City of Agoura Hills, 30001 Ladyface Court, Agoura Hills, CA 91301. | City Hall, 30001 Ladyface Court, Agoura Hills, CA 91301. | May 18, 2018 | 065072
Riverside (FEMA Docket No.: B-1809). | Unincorporated Areas of Riverside County (17-09-1273P). | The Honorable John F. Tavaglione, Chairman, Board of Supervisors, Riverside County, 4080 Lemon Street, 5th Floor, Riverside, CA 92501. | Riverside County, Flood Control and Water Conservation District, 1995 Market Street, Riverside, CA 92502. | Apr. 10, 2018 | 060245
Ventura (FEMA Docket No.: B-1805). | City of Simi Valley (17-09-2603P). | The Honorable Bob Huber, Mayor, City of Simi Valley, 2929 Tapo Canyon Road, Simi Valley, CA 93063. | City Hall, 2929 Tapo Canyon Road, Simi Valley, CA 93063. | Apr. 30, 2018 | 060421
Hawaii:
Hawaii (FEMA Docket No.: B-1805). | Hawaii County (17-09-1339P). | The Honorable Harry Kim, Mayor, County of Hawaii, 25 Aupuni Street, Hilo, HI 96720. | Department of Public Works, 101 Pauahi Street, Suite 7, Hilo, HI 96720. | Apr. 12, 2018 | 155166
Honolulu (FEMA Docket No.: B-1805). | City and County of Honolulu (17-09-2310P). | The Honorable Kirk Caldwell, Mayor, City and County of Honolulu, 530 South King Street Room 306, Honolulu, HI 96813. | Department of Planning and Permitting, 650 South King Street, Honolulu, HI 96813. | Apr. 26, 2018 | 150001
Maui (FEMA Docket No.: B-1809). | Maui County (17-09-1464P). | The Honorable Alan M. Arakawa, Mayor, Maui County, 200 South High Street, Kalana O Maui Building, 9th Floor, Wailuku, HI 96793. | County of Maui Planning Department, 2200 Main Street Suite 315, Wailuku, HI 96793. | May 9, 2018 | 150003
Idaho:
Ada (FEMA Docket No.: B-1805). | Unincorporated Areas of Ada County (17-10-1683P). | The Honorable David L. Case, Chairman, Ada County Board of Commissioners, 200 West Front Street, 3rd Floor, Boise, ID 83702. | Ada County Courthouse, 200 West Front Street, Boise, ID 83702. | Apr. 20, 2018 | 160001
Illinois:
Adams (FEMA Docket No.: B-1805). | City of Quincy (17-05-2795P). | The Honorable Kyle A. Moore, Mayor, City of Quincy, 730 Maine Street, Quincy, IL 62301. | City Hall, 730 Maine Street, Quincy, IL 62301. | Apr. 19, 2018 | 170003
Adams (FEMA Docket No.: B-1805). | Unincorporated Areas of Adams County (17-05-2795P). | The Honorable Les Post, Chairman, Adams County Board, Adams County Courthouse, 101 North 54th Street, Quincy, IL 62305. | Adams County Courthouse, 101 North 54th Street, Quincy, IL 62305. | Apr. 19, 2018 | 170001
Indiana:
Bartholomew (FEMA Docket No.: B-1805). | City of Columbus (17-05-4165P). | The Honorable James D. Lienhoop, Mayor, City of Columbus, City Hall, 123 Washington Street, Columbus, IN 47201. | Bartholomew County Planning Department, 123 Washington Street, Suite B, Columbus, IN 47201. | Apr. 17, 2018 | 180007
Bartholomew (FEMA Docket No.: B-1805). | Unincorporated Areas of Bartholomew County (17-05-4165P). | Mr. Carl Lienhoop, Chairman, Bartholomew County Commissioners, 440 3rd Street, Columbus, IN 47201. | Bartholomew County Planning Department, 123 Washington Street, Suite B, Columbus, IN 47201. | Apr. 17, 2018 | 180006
Oregon:
Marion (FEMA Docket No.: B-1805). | City of Salem (17-10-1190P). | The Honorable Chuck M. Bennett, Mayor, City of Salem, 555 Liberty Street Southeast, Room 220, Salem, OR 97301. | Public Works Department, 555 Liberty Street Southeast, Room 325, Salem, OR 97301. | Apr. 11, 2018 | 410167
Marion (FEMA Docket No.: B-1805). | City of Turner (17-10-1190P). | The Honorable Gary Tiffin, Mayor, City of Turner, 5255 Chicago Street Southeast, Turner, OR 97392. | City Hall, 7250 3rd Street Southeast, Turner, OR 97392. | Apr. 11, 2018 | 410171
Marion (FEMA Docket No.: B-1805). | Unincorporated Areas of Marion County (17-10-1190P). | Mr. Sam Brentano, Commissioner, Marion County, 555 Court Street Northeast, Suite 5232, Salem, OR 97309. | Marion County Department of Planning, 3150 Lancaster Drive Northeast, Salem, OR 97305. | Apr. 11, 2018 | 410154

[FR Doc. 2018-13741 Filed 6-26-18; 8:45 am]

BILLING CODE 9110-12-P